DEPARTMENT OF DEFENSE

Office of the Secretary

[Transmittal No. 24-21]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-21, Policy Justification, and Sensitivity of Technology.

Dated: September 26, 2025.
Stephanie J. Bost,
Alternate OSD Federal Register Liaison Officer, Department of Defense.

Transmittal No. 24-21

Notice of Proposed Issuance of Letter of Offer Pursuant to Section 36(b)(1) of the Arms Export Control Act, as amended

(i) Prospective Purchaser: Government of Brazil

(ii) Total Estimated Value:

Major Defense Equipment * | $450 million
Other | $500 million
TOTAL | $950 million

Funding Source: National Funds

(iii) Description and Quantity or Quantities of Articles or Services under Consideration for Purchase:

Major Defense Equipment (MDE):

Twelve (12) UH-60M Black Hawk helicopters

Thirty-four (34) T700-GE-701D engines (24 installed, 10 spares)

Twenty-eight (28) EAGLE-M Embedded Global Position Systems with Inertial Navigation (EGI) or functional equivalent (24 installed, 4 spares)

Twenty-four (24) AN/ARC-231A radio systems

Non-MDE:

The following non-MDE is also included: AN/PYQ-10 Simple Key Loader (SKL), KIV-77 Common Identification Friend or Foe (IFF) crypto appliques, APX-123A Identification Friend or Foe (IFF) transponders; AN/ARC-231 radio systems; ARC-201D Single Channel Ground and Airborne Radio System (SINCGARS) or functional equivalents; ARC-220 high frequency airborne communication systems or functional equivalents with KY-100M; VRC-100 advanced high frequency ground/vehicular communications systems; ARN-147 navigation receivers; ARN-149 low frequency automatic direction finders; ARN-153 advanced digital Tactical Airborne Navigation (TACAN) receiver-transmitters; APN-209 radar altimeter systems; AN/ARC-210 Gen 6 very high frequency/frequency modulation radios; AN/AVR-2B(V) laser warning systems (provisions only); Airspace Concept Evaluation System (ACES); M-134D-H minigun, mount, power supply, and ammunition handling systems gun and mount accessories package; contractor-provided gun and mount accessories, including spare parts, in support of the M-134D-H minigun systems; Aviation Mission Planning System (AMPS); Aviation Ground Support Equipment (AGSE); HGU-56/P Rotary Wing Helmets (RWH); Advanced Sight Display Computers (ASDC); Common Display Interface Units (CDIU); Wide Color Day Display Module (WCDDM); Wide Color Night Display Module (WCNDM); ADS-B Out ability; Integrated Area Navigation (I-RNAV); RDR-7000 weather radar systems; external rescue hoists; Traffic Collision Avoidance Systems (TCAS); Fast Rope Insertion Extraction System (FRIES); EBC-406HM Emergency Locator Transmitters (ELT); Aircrew Combat Equipment (ACE); Internal Auxiliary Fuel Tank System (IAFTS); technical assistance and logistics support services; publications; and other related elements of logistics and program support.

(iv) Military Department: Army (BR-B-UAJ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 24, 2024

* as defined in Section 47(6) of the Arms Export Control Act.

POLICY JUSTIFICATION

Brazil—UH-60M Black Hawk Helicopters

The Government of Brazil has requested to buy twelve (12) UH-60M Black Hawk helicopters; thirty-four (34) T700-GE-701D engines (24 installed, 10 spares); twenty-eight (28) EAGLE-M Embedded Global Position Systems with Inertial Navigation (EGI) or functional equivalent (24 installed, 4 spares); and twenty-four (24) AN/ARC-231A radio systems. The following non-MDE is also included: AN/PYQ-10 Simple Key Loader (SKL), KIV-77 Common Identification Friend or Foe (IFF) crypto appliques, APX-123A Identification Friend or Foe (IFF) transponders; AN/ARC-231 radio systems; ARC-201D Single Channel Ground and Airborne Radio System (SINCGARS) or functional equivalents; ARC-220 high frequency airborne communication systems or functional equivalents with KY-100M; VRC-100 advanced high frequency ground/vehicular communications systems; ARN-147 navigation receivers; ARN-149 low frequency automatic direction finders; ARN-153 advanced digital Tactical Airborne Navigation (TACAN) receiver-transmitters; APN-209 radar altimeter systems; AN/ARC-210 Gen 6 very high frequency/frequency modulation radios; AN/AVR-2B(V) laser warning systems (provisions only); Airspace Concept Evaluation System (ACES); M-134D-H minigun, mount, power supply, and ammunition handling systems gun and mount accessories package; contractor-provided gun and mount accessories, including spare parts, in support of the M-134D-H minigun systems; Aviation Mission Planning System (AMPS); Aviation Ground Support Equipment (AGSE); HGU-56/P Rotary Wing Helmets (RWH); Advanced Sight Display Computers (ASDC); Common Display Interface Units (CDIU); Wide Color Day Display Module (WCDDM); Wide Color Night Display Module (WCNDM); ADS-B Out ability; Integrated Area Navigation (I-RNAV); RDR-7000 weather radar systems; external rescue hoists; Traffic Collision Avoidance Systems (TCAS); Fast Rope Insertion Extraction System (FRIES); EBC-406HM Emergency Locator Transmitters (ELT); Aircrew Combat Equipment (ACE); Internal Auxiliary Fuel Tank System (IAFTS); technical assistance and logistics support services; publications; and other related elements of logistics and program support. The estimated total cost is $950 million.

This proposed sale will support the foreign policy and national security objectives of the U.S. by helping to improve the security of an important regional partner that is a force for political stability and economic progress in South America.

This proposed sale of UH-60 helicopters will increase Brazil's capability to provide troop transport, border security, medical evacuation, humanitarian assistance and disaster relief, search and rescue, and peacekeeping support. This proposed sale will also promote the United States (U.S.) and Brazil's goal of greater military interoperability. Brazil will have no difficulty absorbing this equipment into its armed forces.

The proposed sale of this equipment and support will not alter the basic military balance in the region.

The principal contractor will be Lockheed Martin, Sikorsky, located in Stratford, CT. There are no known offset agreements proposed in connection with this potential sale. Implementation of this proposed sale will require approximately 15-30 U.S. Government and/or contractor representatives to travel to Brazil.

There will be no adverse impact on U.S. defense readiness as a result of this proposed sale.

Transmittal No. 24-21

Notice of Proposed Issuance of Letter of Offer Pursuant to Section 36(b)(1) of the Arms Export Control Act

Annex

Item No. vii

(vii) Sensitivity of Technology:

1. The UH-60M Black Hawk is the Army's advanced utility helicopter, and is equipped for performing assault and transport missions in contested environments. The aircraft contains the following sensitive communications, target identification, navigation, aircraft survivability, display, and sensor equipment:

a. The AN/ARC-231A (RT 1987) very high frequency (VHF)/ultra-high frequency (UHF) radio is a multi-mode software-defined radio providing line of sight VHF/UHF secure/non-secure voice and data communications in the 30-941 MHz frequency range and Satellite Communications (SATCOM) beyond line of sight secure/non-secure voice and data including Demand Assigned Multiple ACCESS (DAMA) communications in the 240-320 MHz frequency on manned and unmanned aviation platforms. The ARC-231A includes improved type-1 cryptographic algorithm and processing capabilities, Civil Land Mobile Radio, Single Channel Ground and Airborne Radios System (SINCGARS) capabilities, HAVE QUICK (HQ), Second Generation Anti-Jam Tactical UHF Radio for NATO (SATURN) wave form, 8.33 kHz channel spacing for Global Air-Traffic Management (GATM) compliance, and capability for Mobile User Objective System (MUOS) waveform through possible future hardware and software updates.

b. The AN/ARC-210 is a family of radios for military aircraft that provides two-way, multi-mode voice and data communications in the 30 to 512+ MHz frequency range. It covers both VHF and UHF bands with AM, FM, and SATCOM capabilities. The ARC-210 radio also includes embedded anti-jam waveforms, including HQ and SINCGARS, and other data link and secure communications features providing total battlefield interoperability and high-performance capabilities in the transfer of data, voice, and imagery. The software-programmable encryption is under the National Security Agency's Cryptographic Modernization Initiative.

c. The APX-123A Identification Friend-or-Foe (IFF) digital transponder set provides pertinent platform information in response to an IFF interrogator. The digital transponder provides cooperative Mark XII IFF capability using full diversity selection, as well as Mode Select capability. In addition, transponder operation provides interface capability with the aircraft's Traffic Collision and Avoidance System (TCAS). The transponder receives pulsed radio frequency interrogation signals in any of six modes (1, 2, 3/A, S, and 5), decodes the signals, and transmits a pulse coded reply. The Mark XII IFF operation includes Selective Identification Feature (SIF) Modes 1, 2, 3/A, and C, as well as secure cryptographic Mode 5 operational capability, available upon approval via the Communications Security (COMSEC) approval process.

d. The AN/ARC-231 (RT-1808A) VHF/UHF/LOS SATCOM radio is a software-definable radio for military aircraft that provides two-way, multi-mode voice and data communications in the 30 to 512 MHz frequency range. It covers both line-of-sight VHF and UHF bands with AM, FM, and SATCOM capabilities.

e. The AN/ARC-201D VHF frequency modulation Single Channel Ground and Airborne Radio System (SINCGARS) is a reliable, field-proven voice and data communication system used with the UH-60. A country-unique non-COMSEC export variant of this radio will be provided.

f. The AN/ARC-220 high frequency (HF) airborne communication system provides rotary-wing aircraft with advanced voice and data capabilities for short-and long-distance communications. The system is software programmable with a frequency range of 2-29.9999 MHz in 100-Hz steps and provides for embedded automatic link establishment (ALE), serial tone data modem, text messaging, global positioning system (GPS) position reporting, and electronic countermeasure functions.

g. The VRC-100 HF communication system is the ground station version of the AN/ARC-220 for use in aviation operation centers. It provides advanced voice and data capabilities for short-and long-distance communications. The system is software programmable with a frequency range of 2-29.9999 MHz in 100-Hz steps and provides embedded automatic link establishment (ALE), serial tone data modem, text messaging, GPS position reporting, and electronic countermeasure functions. The system is purchased with all required mounts, amplifiers, antennas, power supplies, and accessories.

h. The KY-100M is a self-contained terminal including COMSEC that provides for secure voice and data communications in air and ground tactical environments. It provides half-duplex, narrowband, and wideband communications. Flexible interfaces ensure compatibility with a wide range of voice, data, radio, and satellite equipment. The KY can support Type 1 cryptography.

i. The AN/PYQ-10 Simple Key Loader (SKL) is a ruggedized, portable, hand-held fill device for securely receiving, storing, and transferring data between compatible cryptographic and communications equipment. The AN/PYQ-10(C) SKL contains an embedded KOV-21 COMSEC card that performs cryptographic functions.

j. The KIV-77 IFF crypto applique provides cryptographic and time-of-day services for a Combined Interrogator/Transponder (CIT) or individual interrogator or transponder Mark XIIA (Mode 4 and Mode 5) IFF system deployed to identify cooperative, friendly systems.

k. The Embedded GPS/Inertial Navigation System (INS) (EGI) provides GPS and INS capabilities to the aircraft. The EGI will include Selective Availability Anti-Spoofing Module (SAASM) security for GPS precision positioning service, if required.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Brazil can provide substantially the same degree of protection for the sensitive technology being released as the U.S. Government. This sale is necessary in furtherance of the U.S. foreign policy and national security objectives outlined in the Policy Justification.

5. All defense articles and services listed in this transmittal are authorized for release and export to the Government of Brazil.

[FR Doc. 2025-19040 Filed 9-29-25; 8:45 am]

BILLING CODE 6001-FR-P